CORPORATION FOR NATIONAL AND COMMUNITY SERVICE

Proposed Information Collection; Comment Request

AGENCY: Corporation for National and Community Service.

ACTION: Notice.

SUMMARY: The Corporation for National and Community Service (CNCS), as part of its continuing effort to reduce paperwork and respondent burden, conducts a pre-clearance consultation program to provide the general public and federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, CNCS is soliciting comments concerning the new eGrants performance measurement module for the Social Innovation Fund (SIF), instructions for completing the performance measurement module, and the revised SIF performance progress report. Grantees will use the new performance measurement module to select targets for measures when applying for new or continuation funds. Grantees will report progress on these measures through the revised performance progress report. Completion of quarterly progress reports is required as a condition of the award.

Copies of the information collection request can be obtained by contacting the office listed in the addresses section of this Notice.

DATES: Written comments must be submitted to the individual and office listed in the ADDRESSES section by September 9, 2013.

ADDRESSES: You may submit comments, identified by the title of the information collection activity, by any of the following methods:

(1) By mail sent to: Corporation for National and Community Service, Social Innovation Fund; Attention: Keisha Kersey, Program Officer, Room 9611; 1201 New York Avenue NW., Washington, DC, 20525.

(2) By hand delivery or by courier to the CNCS mailroom at Room 8100 at the street address given in paragraph (1) above, between 9:00 a.m. and 4:00 p.m. Eastern Time, Monday through Friday, except Federal holidays.

(3) By fax to: (202) 606-3477, Attention: Keisha Kersey, Program Officer.

(4) Electronically through the CNCS email address system: kkersey@cns.gov or www.regulations.gov. Individuals who use a telecommunications device for the deaf (TTY-TDD) may call 1-800-833-3722 between 8:00 a.m. and 8:00 p.m. Eastern Time, Monday through Friday.

FOR FURTHER INFORMATION CONTACT: Keisha Kersey, (202) 606-3905, or by email at kkersey@cns.gov.

SUPPLEMENTARY INFORMATION: CNCS is particularly interested in comments that:

• Evaluate the questions being asked and data being collected.

• Evaluate whether the proposed collection of information is necessary for the proper performance of the functions of CNCS, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

The new performance measure module and revised performance progress report will be completed by Social Innovation Fund grantees. The purpose of this information collection is to obtain performance data from Social Innovation Fund grantees that is aligned with agency priorities.

Current Action

CNCS seeks to implement the new performance measure module in eGrants and the related application instructions. In addition, CNCS seeks to revise the quarterly performance progress report.

Type of Review: New.

Agency: Corporation for National and Community Service.

Title: Social Innovation Fund Performance Measure Module Instructions and Quarterly Progress Report.

OMB Number: None.

Agency Number: None.

Affected Public: Current/prospective recipients of Social Innovation Fund grants.

Total Respondents: 20.

Frequency: Quarterly.

Average Time per Response: 2 hours.

Estimated Total Burden Hours: 40 hours.

Total Burden Cost (capital/startup): None.

Total Burden Cost (operating/maintenance): None.

Comments submitted in response to this notice will be summarized and/or included in the request for Office of Management and Budget approval of the information collection request; they will also become a matter of public record.

Dated: July 5, 2013.
Lois Nembhard,
Acting Director, Social Innovation Fund.

[FR Doc. 2013-16593 Filed 7-9-13; 8:45 am]

BILLING CODE 6050-28-P